SMALL BUSINESS ADMINISTRATION

[License No. 05/05-0320]

LFE Growth Fund III, LP; Notice Seeking Exemption Under Section 312 of the Small Business Investment Act, Conflicts of Interest

Notice is hereby given that LFE Growth Fund III, LP, 319 Barry Avenue South, Suite 215, Wayzata, MN 55391, a Federal Licensee under the Small Business Investment Act of 1958, as amended (the “Act”), in connection with the financing of a small concern, has sought an exemption under Section 312 of the Act and Section 107.730, Financings which Constitute Conflicts of Interest of the Small Business Administration (“SBA”) Rules and Regulations (13 CFR 107.730). LFE Growth Fund III, LP proposes to provide debt financing to Wellbeats, Inc., 11600 96th Ave. North, Maple Grove, MN 55369. The proceeds will be used to fund growth of the company.

The financing is brought within the purview of § 107.730(a)(1) of the Regulations because LFE Growth Fund III, LP and LFE Growth Fund II, LP are Associates and because LFE Growth Fund II, LP has a greater than ten percent interest in Wellbeats. Therefore this transaction is considered financing an Associate requiring SBA prior written exemption.

Notice is hereby given that any interested person may submit written comments on the transaction, within fifteen days of the date of this publication, to the Associate Administrator for Office of Investment and Innovation, U.S. Small Business Administration, 409 Third Street SW., Washington, DC 20416.

Dated: February 15, 2017.
Michele Schimpp,
Acting Associate Administrator for Office of Investment and Innovation.

[FR Doc. 2017-03473 Filed 2-22-17; 8:45 am]

BILLING CODE 8025-01-P